ENVIRONMENTAL PROTECTION AGENCY

[EPA-HQ-OPP-2024-0154; FRL-11873-01-OCSPP]

Pesticide Product Registration; Receipt of Application for New Use

AGENCY: Environmental Protection Agency (EPA).

ACTION: Notice.

SUMMARY: EPA has received an application proposing to register new uses for a new pesticide product containing a currently registered active ingredient. Pursuant to the Federal Insecticide, Fungicide, and Rodenticide Act (FIFRA), EPA is hereby providing notice of receipt and opportunity to comment on this application.

DATES: Comments must be received on or before June 3, 2024.

ADDRESSES: Submit your comments, identified by docket identification (ID) number EPA-HQ-OPP-2024-0154, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Charles Smith, Director, Registration Division (7505P), Office of Pesticide Programs, Environmental Protection Agency, 1200 Pennsylvania Ave. NW, Washington, DC 20460-0001; main telephone number: (202) 566-1030; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Application

EPA has received an application to register new uses for a new pesticide product containing a currently registered active ingredient. Pursuant to the provisions of FIFRA section 3(c)(4) (7 U.S.C. 136a(c)(4)), EPA is hereby providing notice of receipt of this application and an opportunity to comment on the information provided below as well as the current proposed labeling associated with this application. Notice of receipt of this application does not imply a decision by the Agency on this application.

File Symbol: 264-REUR. Docket ID number: EPA-HQ-OPP-2024-0154. Applicant: Bayer CropScience LP, 800 N Lindbergh Blvd., St. Louis, MO 63167. Active ingredient: Dicamba. Product type: Herbicide. Proposed use: Dicamba-tolerant cotton and dicamba-tolerant soybeans. Contact: RD.

This proposed new use has been coded as an R170, additional food use, which carries a PRIA 5 statutory review time of 17 months from the date that the action gets in-processed. Because EPA expects a large stakeholder interest in this application, EPA also included Bayer CropScience's current proposed labeling associated with the application, in https://www.regulations.gov, Docket ID EPA-HQ-OPP-2024-0154.

Authority: 7 U.S.C. 136 et seq.

Dated: April 29, 2024.
Charles Smith,
Director, Registration Division, Office of Pesticide Programs.

[FR Doc. 2024-09609 Filed 5-2-24; 8:45 am]

BILLING CODE 6560-50-P